DEPARTMENT OF TRANSPORTATION

Office of the Secretary

Notice of Applications for Certificates of Public Convenience and Necessity and Foreign Air Carrier Permits Filed Under Subpart Q During the Week Ending March 24, 2000

The following Applications for Certificates of Public Convenience and Necessity and Foreign Air Carrier Permits were filed under Subpart Q of the Department of Transportation's Procedural Regulations (see 14 CFR 302.1701 et. seq.). The due date for Answers, Conforming Applications, or Motions to modify Scope are set forth below for each application. Following the Answer period DOT may process the application by expedited procedures. Such procedures may consist of the adoption of a show-cause order, a tentative order, or in appropriate cases a final order without further proceedings.

Docket Number: OST-2000-7102.

Date Filed: March 20, 2000.

Due Date for Answers, Conforming Applications, or Motion to Modify Scope: April 17, 2000.

Description: Application of Alaska Scenic Air, LLC d/b/a A Ball Air pursuant to 49 U.S.C. section 41102 and Subpart Q, applies for a Certificate of Public Convenience and Necessity for an indefinite term to perform scheduled, interstate transportation of persons, property and mail.

Docket Number: OST-2000-7121.

Date Filed: March 23, 2000.

Due Date for Answers, Conforming Applications, or Motion to Modify Scope: April 20, 2000.

Description: Application of AOM-Minerve, S.A. pursuant to 49 U.S.C. section 41302, and Subpart Q, requests an amendment to its foreign air carrier permit to allow it: (1) To engage in scheduled foreign air transportation of persons, property and mail from points behind France via France to a point or points in the United States and beyond to two points in the Western Hemisphere and points in the French Territories in the Pacific; (2) to engage in scheduled foreign air transportation of persons, property and mail from points behind French Polynesia via French Polynesia and intermediate points to a point or point in the United States and beyond; (3) to the extent necessary, to commingle traffic moving in air transportation between the United States and France or French Polynesia and traffic not in air transportation; (4) to engage in charter foreign air transportation of persons, property and mail between any point or points in France and any point or points in the United States; and (5) to engage in other charter foreign air transportation as may be authorized pursuant to the department's regulations.

Docket Number: OST-2000-7128.

Date Filed: March 23, 2000.

Due Date for Answers, Conforming Applications, or Motion to Modify Scope: April 20, 2000.

Description: Notice of Sun Pacific International, Inc. pursuant to 14 CFR section 204.7(b), of its intent to resume charter domestic and foreign air transportation of persons, property and mail, subsequent to restoration of effective Part 121 certificate authority by the Federal Aviation Administration. Sun Pacific requests that the Department grant a waiver of the 45-day advance filing requirement of this rule; the carrier expects restoration of its FAA certificate authority shortly, and it is essential that it be able to resume operations as soon thereafter as possible.

Andrea M. Jenkins,
Federal Register Liaison.

[FR Doc. 00-11159 Filed 5-3-00; 8:45 am]

BILLING CODE 4910-62-P